DEPARTMENT OF ENERGY

Federal Energy Regulatory Commission

[Project No. 13583-000]

Crane & Company; Notice of Preliminary Permit Application Accepted for Filing and Soliciting Comments, Motions To Intervene, and Competing Applications

November 17, 2009.

On September 3, 2009, Crane & Company filed an application, pursuant to section 4(f) of the Federal Power Act, proposing to study the feasibility of the Byron Weston Dam No. 2 Hydroelectric Generation Project No. 13583, to be located on the East Branch of the Housatonic River, in Berkshire County, Massachusetts.

The proposed project would consist of: (1) The existing 30-foot-high, 75-foot-long Byron Weston Dam No. 2; (2) an existing 1.2-acre impoundment with a normal water surface elevation of 1,112 feet mean sea level; (3) a new turbine and generator with a capacity of 175 kilowatts; (4) a new trash rack; (5) a refurbished 6-foot-diameter penstock and a new 15-foot-long, 4-foot-diameter penstock; (6) an existing 27-by-29-foot, four-story powerhouse; (7) an existing 25-foot-long, 8-foot-wide tailrace; (8) and appurtenant facilities. The project would have an estimated annual generation of 837 megawatt-hours.

Applicant Contact: James Noel, Crane & Company, 30 South Street, Dalton, MA 01226, (413) 684-6319.

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at: http://www.ferc.gov/filing-comments.asp.

More information about this project can be viewed or printed on the “eLibrary” link of Commission's Web site at http://www.ferc.gov/docs-filing/elibrary.asp. Enter the docket number (P-13583) in the docket number field to access the document. For assistance, call toll-free 1-866-208-3372.

Kimberly D. Bose,
Secretary.

[FR Doc. E9-28115 Filed 11-23-09; 8:45 am]

BILLING CODE 6717-01-P